DEPARTMENT OF COMMERCE

Foreign-Trade Zones Board

Foreign-Trade Zone 153 - San Diego, California, Site Renumbering Notice

Foreign-Trade Zone 153 was approved by the Foreign-Trade Zones Board on October 14, 1988 (Board Order 394, 53 FR 41616, 10/24/88) and expanded on December 16, 1991 (Board Order 548, 56 FR 67057, 12/27/91) and on August 23, 2002 (Board Order 1245, 67 FR 56983, 09/06/02).

FTZ 153 currently consists of 10 “Sites” totaling 1,651 acres in the San Diego, California area. The current update does not alter the physical boundaries that have previously been approved, but instead involves an administrative renumbering of existing Site 5A and Site 6A for record-keeping purposes.

Under this revision, the site list for FTZ 153 will be as follows: Site 1 (316 acres) -- Brown Field, located at Otay Mesa and Heritage Roads; Site 2 (73 acres) -- San Diego Business Park, located at Airway Road and State Route 125; Site 3 (60 acres) -- Gateway Park, located at Harvest and Customs House Plaza Roads; Site 4 (71 acres) -- Britannia Commerce Center, located at Siempre Viva Road and Britannia Boulevard; Site 5 (312 acres) -- De La Fuente Business Park, located at Airway and Media Roads; Site 6 (160 acres) -- Brown Field Business Park, located at Otay Mesa Road and Britannia Boulevard; Site 7 (389 acres) -- Otay International Center, located at Harvest and Airway Roads; Site 8 (86 acres) -- Ocean View Hills Corporate Center, located at Otay Mesa Road and Innovative Drive; Site 9 (119 acres) -- Siempre Viva Business Park, located along La Media and Siempre Viva Roads; and, Site 10 (65 acres) -- Brown Field Technology Park, located across Otay Mesa Road from Brown Field.

For further information, contact Christopher Kemp at (202) 482-0862 or Christopher.Kemp@trade.gov.

Dated: July 29, 2010.
Andrew Mcgilvray,
Executive Secretary.

[FR Doc. 2010-19138 Filed 8-3-10; 8:45 am]

BILLING CODE 3510-DS-S